OFFICE OF SCIENCE AND TECHNOLOGY POLICY

Government “Big Data”; Request for Information

ACTION: Notice of Request for Information.

SUMMARY: On January 17, 2014, President Obama called for senior government officials to lead a comprehensive review of the ways in which “big data” will affect how Americans live and work, and the implications of collecting, analyzing and using such data for privacy, the economy, and public policy. The President requested that the review examine challenges confronted by both the public and private sectors; whether the United States can forge international norms on how to manage this data; and how we can continue to promote the free flow of information in ways that are consistent with both privacy and security. Once complete, the review will result in a report that anticipates future technological trends and frames the key questions that the collection, analysis, and use of “big data” raise for our government and nation. This notice solicits public input to inform this effort.

DATES: Responses must be received by March 31, 2014 to be considered.

ADDRESSES: You may submit comments by any of the following methods:

• Email: bigdata@ostp.gov. Include [Big Data RFI] in the subject line of the message.

• Fax: (202) 456-6040, Attn: Big Data Study

• Mail: Attn: Big Data Study, Office of Science and Technology Policy, Eisenhower Executive Office Building, 1650 Pennsylvania Ave. NW., Washington, DC 20502.

Instructions: Response to this RFI is voluntary. Responses exceeding 7,500 words or 15 pages will not be considered. Respondents need not reply to all questions; however, they should clearly indicate the number of each question to which they are responding. Responses to this RFI may be posted without change online. OSTP therefore requests that no business proprietary information, copyrighted information, or personally identifiable information be submitted in response to this RFI. Please note that the U.S. Government will not pay for response preparation, or for the use of any information contained in the response.

FOR FURTHER INFORMATION CONTACT: Nicole Wong, 202-456-4444, bigdata@ostp.gov.

SUPPLEMENTARY INFORMATION: We are undergoing a revolution in the way that information about our purchases, our conversations, our social networks, our movements, and even our physical identities are collected, stored, analyzed, and used. The immense volume, diversity, and potential value of data will have profound implications for privacy, the economy, and public policy.

Recognizing both the trajectory of these technologies and the broadening uses of such data, the President on January 17, 2014, charged counselor John Podesta with leading a comprehensive review of issues at the intersection of “big data” and privacy. As part of those efforts, the Administration, in coordination with the President's Council of Advisors on Science and Technology, is engaging with privacy experts, technologists, business and government leaders and the academic community, to consider the implications of “big data,” and focus on how the present and future state of these technologies might motivate changes in our policies across a range of sectors. This review will explore the way that “big data” will affect the way we live and work; the relationship between government and citizens; and how public and private sectors can spur innovation and maximize the opportunities and free flow of this information while minimizing the risks to privacy (http://www.whitehouse.gov/blog/2014/01/23/big-data-and-future-privacy).

For purposes of this Request For Information, the phrase “big data” refers to datasets so large, diverse, and/or complex, that conventional technologies cannot adequately capture, store, or analyze them.

Questions to the Public

Without limiting the foregoing, commenters should consider the following:

(1) What are the public policy implications of the collection, storage, analysis, and use of big data? For example, do the current U.S. policy framework and privacy proposals for protecting consumer privacy and government use of data adequately address issues raised by big data analytics?

(2) What types of uses of big data could measurably improve outcomes or productivity with further government action, funding, or research? What types of uses of big data raise the most public policy concerns? Are there specific sectors or types of uses that should receive more government and/or public attention?

(3) What technological trends or key technologies will affect the collection, storage, analysis and use of big data? Are there particularly promising technologies or new practices for safeguarding privacy while enabling effective uses of big data?

(4) How should the policy frameworks or regulations for handling big data differ between the government and the private sector? Please be specific as to the type of entity and type of use (e.g., law enforcement, government services, commercial, academic research, etc.).

(5) What issues are raised by the use of big data across jurisdictions, such as the adequacy of current international laws, regulations, or norms?

Ted Wackler,
Deputy Chief of Staff and Assistant Director.

[FR Doc. 2014-04660 Filed 3-3-14; 8:45 am]

BILLING CODE 3270-F2-P